NUCLEAR REGULATORY COMMISSION

[Docket Nos. 50-369 and 50-370]

Duke Energy Corporation; McGuire Nuclear Station, Unit Nos. 1 and 2; Notice of Partial Denial of Amendment to Facility Operating License and Opportunity for Hearing

The U.S. Nuclear Regulatory Commission (the Commission) has partially denied a request by Duke Energy Corporation (the licensee) for an amendment to Facility Operating License (FOL) Nos. NPF-9 and NPF-17 issued to the licensee for operation of the McGuire Nuclear Station, Unit Nos. 1 and 2, respectively, located in Mecklenburg County, North Carolina. Notice of Consideration of Issuance of this amendment was published in the Federal Register on November 1, 2001 (65 FR 65341).

The purpose of the licensee's amendment request was to revise the FOLs by (a) deleting the license conditions (LCs) that have been fulfilled by actions that have been completed or are imposed by other regulatory requirements, (b) changing the license conditions that have been superseded by the current plant status, and (c) incorporating other administrative changes.

The NRC staff has concluded that the licensee's request cannot be fully granted with regard to the following elements for Unit 1:

License Condition 2.G, Reporting of Violations

The licensee's basis for deletion of license condition 2.G which requires the reporting of violations of the requirements of license conditions 2.C(1), Maximum Power Level, 2.C(4) Fire Protection program, and 2.E, on safeguards and security, is that the primary reporting requirements for these license conditions are covered by 10 CFR 50.72 and 10 CFR 50.73. However, the staff does not find that the licensee has shown that specific issues addressed by these LCs are encompassed by the provisions of 10 CFR 50.72 and 10 CFR 50.73 and, on this basis denies the request to delete license condition 2.G as it applies to license condition 2.C(1), 2.C(4) and 2.E. The licensee's request to delete portions of license condition 2.G as it applies to other license conditions has been granted.

The NRC staff has concluded that the licensee's request cannot be fully granted with regard to the following elements for Unit 2:

License Condition 2.C(11), Protection of the Environment

The NRC staff determined that the license condition must be retained on the basis that the requirement of the license condition is an ongoing requirement and will be germane for the life of the license. Licensee compliance with some environmental regulations is, in fact, monitored by the State of North Carolina and the U.S. Environmental Protection Agency. However, in its role as a licensing agency, the NRC is responsible for monitoring compliance with other regulations. Examples include the Endangered Species Act and the Historic Preservation Act. In order to meet its responsibilities, the NRC must be made aware of planned licensee activities which may result in a significant adverse environmental impact that was not evaluated or that is significantly greater than that evaluated in the Final Environmental Statement or any other environmental impact statement (EIS) relevant to the site (e.g., an EIS associated with license renewal). Therefore, staff finds that this requirement must remain in place and that its request for deletion is denied.

License Condition 2.F, Reporting of Violations

The licensee's basis for deletion of license condition 2.F which requires the reporting of violations of the requirements of license conditions 2.C(1), Maximum Power Level, 2.C(7) Fire Protection, 2.C(11) Protection of the Environment, and 2.E, on safeguards and security, is that the primary reporting requirements for these license conditions are covered by 10 CFR 50.72 and 10 CFR 50.73. However, the staff does not find that the licensee has shown that the specific issues addressed by these LCs are encompassed by the provisions of 10 CFR 50.72 and 10 CFR 50.73 and, on this basis denies the request to delete license condition 2.G as it applies to license condition 2.C(1), 2.C(7), 2.C(11) and 2.E. The licensee's request to delete portions of license condition 2.F as it applies to other license conditions has been granted.

Accordingly, this aspect of the licensee's proposed license amendment is denied. The licensee was notified of the Commission's denial of the proposed change by a letter dated October 19, 2001.

By December 5, 2001, the licensee may demand a hearing with respect to the denial described above. Any person whose interest may be affected by this proceeding may file a written petition for leave to intervene.

A request for hearing or petition for leave to intervene must be filed with the Secretary of the Commission, U.S. Nuclear Regulatory Commission, Washington, DC 20555-0001 Attention: Rulemakings and Adjudications Staff, or may be delivered to the U.S. Nuclear Regulatory Commission, Public Document Room, Washington, DC 20555-0001, by the above date.

A copy of any petitions should also be sent to the Office of the General Counsel, U.S. Nuclear Regulatory Commission, Washington, DC 20555-0001, and to Ms. Lisa F. Vaughn, Duke Energy Corporation, 422 South Church Street, Charlotte, North Carolina 28201-1006 attorney for the licensee.

For further details with respect to this action, see (1) the application for amendment dated June 13, 2000, as supplemented August 30 and September 10, 2001, and (2) the Commission's letter to the licensee dated October 19, 2001.

Documents may be examined, and/or copied for a fee, at the NRC's Public Document Room, located at One White Flint North, 11555 Rockville Pike (first floor), Rockville, Maryland, and accessible electronically through the ADAMS Public Electronic Reading Room link at the NRC web site (http://www.nrc.gov).

Dated at Rockville, Maryland, this 19th day of October 2001.
For the Nuclear Regulatory Commission.
Herbert N. Berkow,
Director, Project Directorate II, Division of Licensing Project Management, Office of Nuclear Reactor Regulation.

[FR Doc. 01-27731 Filed 11-2-01; 8:45 am]

BILLING CODE 7590-01-P